DEPARTMENT OF COMMERCE

Foreign-Trade Zones Board

[B-44-2012]

Foreign-Trade Zone 61—San Juan, PR; Notification of Proposed Production Activity; Pfizer Pharmaceuticals LLC (Subzone 61A); (Ibuprofen Pharmaceutical Products); Guayama, PR

The Puerto Rico Trade and Export Company, grantee of FTZ 61, submitted a notification of proposed production activity on behalf of Pfizer Pharmaceuticals LLC (Pfizer) (Subzone 61A) for its manufacturing facility located in Guayama, Puerto Rico. The notification conforming to the requirements of the regulations of the Board (15 CFR 400.22) was received on June 13, 2012.

Subzone 61A was originally approved by the Board in 1992 at the former Searle plant located at Munoz Marin Avenue and Road 189 in Caguas, Puerto Rico, for the production and distribution of various pharmaceutical products under zone procedures (Board Order 617, 12/11/1992, 57 FR 61046, 12/23/1992). On June 8, 2012, a minor boundary modification under 15 CFR 400.38 of the Board's regulations was approved to relocate the subzone from Pfizer's Caguas plant to its facility located at PR 2, Km 141.3 in Guayama, Puerto Rico (S-69-2012).

Pfizer is now requesting to produce ibuprofen pharmaceutical products in bulk mixture or dosage form under FTZ procedures at the Guayama site. Production under FTZ procedures could exempt Pfizer from customs duty payments on the foreign status components used in export production. On its domestic sales, Pfizer would be able to choose the duty rate during customs entry procedures that applies to the ibuprofen pharmaceutical products (duty-free) for foreign-status ibuprofen active ingredient (duty rate, 6.5%). Customs duties also could possibly be deferred or reduced on foreign-status production equipment.

Public comment is invited from interested parties. Submissions shall be addressed to the Board's Executive Secretary at the address below. The closing period for their receipt is July 30, 2012.

A copy of the notification will be available for public inspection at the Office of the Executive Secretary, Foreign-Trade Zones Board, Room 2111, U.S. Department of Commerce, 1401 Constitution Avenue NW., Washington, DC 20230-0002, and in the “Reading Room” section of the Board's Web site, which is accessible via www.trade.gov/ftz.

For further information, contact Diane Finver at Diane.Finver@trade.gov or (202) 482-1367.

Elizabeth Whiteman,
Acting Executive Secretary.

[FR Doc. 2012-15093 Filed 6-19-12; 8:45 am]

BILLING CODE P